SMALL BUSINESS ADMINISTRATION

[Disaster Declaration #16253 and #16254; PUERTO RICO Disaster Number PR-00034]

Presidential Declaration Amendment of a Major Disaster for the Commonwealth of Puerto Rico

AGENCY: U.S. Small Business Administration.

ACTION: Amendment 11.

SUMMARY: This is an amendment of the Presidential declaration of a major disaster for the Commonwealth of Puerto Rico (FEMA-4473-DR), dated 01/16/2020.

Incident: Earthquakes.

Incident Period: 12/28/2019 through 07/03/2020.

DATES: Issued on 03/25/2021.

Physical Loan Application Deadline Date: Filing Period for the Municipality of Rincon ends 05/24/2021.

Economic Injury (EIDL) Loan Application Deadline Date: Filing Period for the Municipality of Rincon ends 12/27/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the Commonwealth of Puerto Rico, dated 01/16/2020, is hereby amended to include the Municipality of Rincon. Please contact the SBA disaster assistance customer service center by email at disastercustomerservice@sba.gov or by phone at 1-800-659- 2955 to request an application. Applications for physical damages may be filed until 05/24/2021 and applications for economic injury may be file until 12/27/2021.

All other information in the original declaration remains unchanged.

(Catalog of Federal Domestic Assistance Number 59008)

James Rivera,
Associate Administrator for Disaster Assistance.

[FR Doc. 2021-06813 Filed 4-1-21; 8:45 am]

BILLING CODE 8026-03-P